DEPARTMENT OF TRANSPORTATION

Federal Railroad Administration

49 CFR Part 219

[Docket No. FRA-2009-0039]

RIN 2130-AC10

Control of Alcohol and Drug Use: Coverage of Maintenance of Way Employees, Retrospective Regulatory Review-Based Amendments (RRR)

AGENCY: Federal Railroad Administration (FRA), Department of Transportation (DOT).

ACTION: Notice of proposed rulemaking; extension of comment period.

SUMMARY: On July 28, 2014, FRA published an NPRM proposing to expand the scope of its alcohol and drug regulations to cover employees who perform maintenance-of-way (MOW) activities and certain additional substantive amendments. This document provides notice that FRA is extending the comment period for this NPRM by 60 days.

DATES: The comment period for the NPRM published on July 28, 2014 (79 FR 43830), which was closing on September 26, 2014, is extended until November 25, 2014.

ADDRESSES: Comments: Comments related to Docket No. FRA-2009-0039 may be submitted by any of the following methods:

• Online: Comments should be filed at the Federal eRulemaking Portal, http://www.regulations.gov. Follow the online instructions for submitting comments.

• Fax: 202-493-2251.

• Mail: Docket Management Facility, U.S. DOT, 1200 New Jersey Avenue SE., W12-140, Washington, DC 20590.

• Hand Delivery: Room W12-140 on the Ground level of the West Building, 1200 New Jersey Avenue SE., Washington, DC between 9 a.m. and 5 p.m. Monday through Friday, except Federal holidays.

Instructions: All submissions must include the agency name and docket number or Regulatory Identification Number (RIN) for this rulemaking, RIN 2130-AC10. Note that all comments received will be posted without change to http://www.regulations.gov including any personal information provided. Interested parties should also be aware that anyone is able to search the electronic form of all written communications and comments received into any agency docket by the name of the individual submitting the document (or signing the document, if submitted on behalf of an association, business, labor union, etc.). You may review DOT's complete Privacy Act Statement in the Federal Register published on April 11, 2000 (65 FR 19477), or you may visit http://www.dot.gov/privacy.html.

FOR FURTHER INFORMATION CONTACT: For program and technical issues, contact Gerald Powers, Drug and Alcohol Program Manager, Office of Safety Enforcement, Mail Stop 25, Federal Railroad Administration, 1200 New Jersey Avenue SE., Washington, DC 20590 (telephone 202-493-6313), gerald.powers@dot.gov. For legal issues, contact Elizabeth A. Gross, Trial Attorney, Office of Chief Counsel, Federal Railroad Administration, 1200 New Jersey Avenue SE., Mail Stop 10, Washington, DC 20590 (telephone 202-493-1342), elizabeth.gross@dot.gov; or Patricia V. Sun, Trial Attorney, Office of Chief Counsel, Federal Railroad Administration, 1200 New Jersey Avenue SE., Mail Stop 10, Washington, DC 20590 (telephone 202-493-6060), patricia.sun@dot.gov.

SUPPLEMENTARY INFORMATION: In response to Congress' mandate in the Rail Safety Improvement Act of 2008 (RSIA), on July 28, 2014, FRA published an NPRM proposing to expand the scope of its alcohol and drug regulations to cover employees who perform maintenance-of-way (MOW) activities. 79 FR 43830. In addition, in the NPRM, FRA proposed certain additional substantive amendments to its alcohol and drug regulations that either respond to National Transportation Safety Board recommendations or update and clarify the regulations based on a retrospective regulatory review analysis.

In a document dated September 15, 2014, the American Public Transportation Association, American Short Line and Regional Railroad Association, Association of American Railroads, and National Railroad Construction and Maintenance Association, Inc., jointly requested a 60 day extension of the NPRM's comment period. This document provides notice that FRA is extending the comment period for this NPRM by 60 days and comments to the NPRM are now due on November 25, 2014.

Authority: 49 U.S.C. 20103, 20107, 20140, 21301, 21304, 21311; 28 U.S.C. 2461, note; Sec. 412, Pub. L. 110-432, 122 Stat. 4889; and 49 CFR 1.89.

Issued in Washington, DC, on September 19, 2014.
Robert C. Lauby,
Associate Administrator for Railroad Safety and Chief Safety Officer.

[FR Doc. 2014-22768 Filed 9-24-14; 8:45 am]

BILLING CODE 4910-06-P